DEPARTMENT OF TRANSPORTATION

Federal Railroad Administration

[Docket Number FRA-2012-0054]

Petition To Amend Waiver of Compliance

In accordance with part 211 of Title 49 Code of Federal Regulations (CFR), this document provides the public notice that by a letter dated July 23, 2014, the National Railroad Passenger Corporation (Amtrak) has petitioned the Federal Railroad Administration (FRA) for an amendment of a previously approved waiver granted in Docket Number FRA-2012-0054 on December 13, 2012, that provided relief from certain provisions of the Federal railroad safety regulations contained at 49 CFR part 242, Qualification and Certification of Conductors, for a period of 5 years. The relief was granted to Amtrak contingent on participation in the Confidential Close Call Reporting System (C3RS) pilot project.

On January 24, 2013, Amtrak modified the C3RS Implementing Memorandum of Understanding (IMOU) provisions to extend boundaries for relief and include additional protection for tenant operations within the limits of Amtrak's Sunnyside Yard. FRA granted relief for the changes on May 8, 2013.

The July 23, 2014, petition states that the current IMOU, dated May 11, 2010, and subsequent amendments that govern the pilot program will be replaced with a new IMOU. Amtrak, employees represented by the Brotherhood of Locomotive Engineers and Trainmen (BLET) and the Sheet Metal, Air, Rail and Transportation Workers Transportation Division (SMART-TD), and FRA intend to sign the new IMOU that will be effective on December 1, 2014, replacing the original IMOU as current relief expires.

The new IMOU is based on a revised template provided by FRA and will provide provisions similar to the current IMOU plus Article 3.2 that will extend protections to tenant locomotive engineers and conductors in tenant/host operations.

Amtrak, BLET, and SMART-TD seek to shield the reporting employees and the railroad from punitive sanctions that would otherwise arise as provided in 49 CFR 242.403, Criteria for revoking certification, to encourage locomotive engineer reporting of close calls and to protect locomotive engineers and Amtrak from discipline or sanctions arising from the incidents reported pursuant to the new IMOU.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within October 14, 2014 of the date of this notice will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on August 20, 2014.
Ron Hynes,
Director, Office of Safety Assurance and Compliance.

[FR Doc. 2014-20509 Filed 8-27-14; 8:45 am]

BILLING CODE 4910-06-P